ENVIRONMENTAL PROTECTION AGENCY

40 CFR Part 52

[AZ131-125; FRL-7860-9]

Revisions to the Arizona State Implementation Plan Maricopa County Environmental Services Department

AGENCY: Environmental Protection Agency (EPA).

ACTION: Proposed rule.

SUMMARY: EPA is proposing to approve revisions to the Maricopa County Environmental Services Department portion of the Arizona State Implementation Plan (SIP). These revisions concern an emissions statement rule and a negative declaration that addresses volatile organic compound (VOC) emissions from Fiberglass Boat Manufacturing. We are proposing to approve the rule and the negative declaration to update the Arizona SIP under the Clean Air Act as amended in 1990 (CAA or the Act).

DATES: Any comments on this proposal must arrive by March 14, 2005.

ADDRESSES: Send comments to Andy Steckel, Rulemaking Office Chief (AIR-4), U.S. Environmental Protection Agency, Region IX, 75 Hawthorne Street, San Francisco, CA 94105-3901, or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

Arizona Department of Environmental Quality, Air Quality Division, 1110 West Washington Street, Phoenix, Arizona 85007

Maricopa County Department of Environmental Services, Air Pollution Control Division, 1001 North Central Avenue, Suite 100, Phoenix, Arizona 85004

Copies of the rule and the negative declaration may also be available via the Internet at http://www.maricopa.gov/envsvc/AIR/ruledesc.asp. Please be advised that this is not an EPA Web site and may not contain the same version of the rule that was submitted to EPA.

FOR FURTHER INFORMATION CONTACT: Julie A. Rose, EPA Region IX, (415) 947-4126, rose.julie@epa.gov.

SUPPLEMENTARY INFORMATION: This proposal addresses Rule 100, Section 504, Emission Statements Required, and a negative declaration for the VOC source category, Fiberglass Boat Manufacturing. In the Rules and Regulations section of this Federal Register, we are approving this rule and the negative declaration in a direct final action without prior proposal because we believe these SIP revisions are not controversial. If we receive adverse comments, however, we will publish a timely withdrawal of the direct final rule and address the comments in a subsequent action based on this proposed rule.

We do not plan to open a second comment period, so anyone interested in commenting should do so at this time. If we do not receive adverse comments, no further activity is planned. For further information, please see the direct final action.

Dated: December 22, 2004.
Sally Seymour,
Acting Regional Administrator, Region IX.

[FR Doc. 05-2521 Filed 2-9-05; 8:45 am]

BILLING CODE 6560-50-P